DEPARTMENT OF HEALTH AND HUMAN SERVICES

Administration for Children and Families

Proposed Information Collection Activity; Comment Request

Title: Accomplishments of the Domestic Violence Hotline, Online Connections and Text (ADVHOCaT) Study.

OMB No.: New Collection.

Description: The National Domestic Violence Hotline (NDVH) and the National Dating Abuse Helpline or Love Is Respect (NDAH/LIR), which are supported by the Division of Family Violence Prevention and Services within the Family and Youth Services Bureau of the Administration for Children and Families (ACF), U.S. Department of Health and Human Services (HHS), serve as partners in the intervention, prevention, and resource assistance efforts of the network of family violence, domestic violence, and dating violence service providers.

In order to describe the activities and accomplishments of the NDVH and NDAH/LIR and develop potential new or revised performance measures, the Office of Planning, Research and Evaluation (OPRE), within ACF/HHS is proposing data collection activity as part of the Accomplishments of the Domestic Violence Hotline, Online Connections and Text (ADVHOCaT) Study.

This study will primarily analyze data previously collected by the NDVH and NDAH/LIR as part of their ongoing program activities and monitoring. ACF proposes to collect additional information, including information about the preferred mode (phone, chat, text), ease of use, and perceived safety of each mode of contact.

This data is to be collected through voluntary web-based surveys that are to be completed by those who access the NDVH and NDAH/LIR Web sites. This information will be critical to informing future efforts to monitor and improve the performance of domestic violence hotlines and provide hotline services.

Respondents: Individuals who access the NDVH and NDAH/LIR Web sites.

Annual Burden Estimates
Instrument | Total/annual number of respondents | Number of responses per respondent | Average burden hours per response | Annual burden hours
NDVH/LIR Preference of Use Survey | 5000 | 1 | 0.041 hours (150 seconds) | 205

Estimated Total Annual Burden Hours: 205 hours.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2015-17687 Filed 7-17-15; 8:45 am]

BILLING CODE 4184-01-P